DEPARTMENT OF DEFENSE

Office of the Secretary

[Docket ID DoD-2014-OS-0076]

Proposed Collection; Comment Request

AGENCY: Office of the Secretary of Defense, DoD.

ACTION: Notice.

SUMMARY: In compliance with Section 3506(c)(2)(A) of the Paperwork Reduction Act of 1995, the Defense Security Service (DSS) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 28, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Industrial Security Clearance Office (DISCO), 2780 Airport Drive, Suite 400, Columbus, OH 43219-2268, or call DISCO at (614) 827-1530/1528.

SUPPLEMENTARY INFORMATION: Title; Associated Form; and OMB Number: Personnel Security Clearance Change Notification; NISCO Form 562; OMB Control Number 0704-0418.

Needs And Uses: DISCO Form 562 is used by contractors participating in the National Industrial Security Program to report various changes in employee personnel clearance status or identification information, e.g., reinstatements, conversions, terminations, changes in name or other previously submitted information.

Affected Public: Business or other for-profit; not-for-profit institutions.

Annual Burden Hours: 45,816 hours.

Number of Respondents: 11,454.

Responses per Respondent: 20.

Total Annual Responses: 229,080.

Average Burden per Response: 12 minutes.

Frequency: On Occasion.

The execution of the DISCO Form 562 is a factor in making a determination as to whether a contractor employee is eligible to have a security clearance. These requirements are necessary in order to preserve and maintain the security of the United States through establishing standards to prevent the improper disclosure of classified information.

Dated: May 22, 2014.
Aaron Siegel,
Alternate OSD Federal Register Liaison Officer, Department of Defense.

[FR Doc. 2014-12285 Filed 5-27-14; 8:45 am]

BILLING CODE 5001-06-P